ENVIRONMENTAL PROTECTION AGENCY

40 CFR Part 52

[DE053-1029a; FRL-6996-5]

Approval and Promulgation of Air Quality Implementation Plans; Delaware; Conversion of the Conditional Approval of the NOX RACT Regulation to a Full Approval and Approval of NOX RACT Determinations for Three Sources

AGENCY: Environmental Protection Agency (EPA).

ACTION: Direct final rule.

SUMMARY: EPA is taking direct final action to approve revisions to the Delaware State Implementation Plan (SIP) submitted by the Delaware Department of Natural Resources and Environmental Control (DNREC). These revisions were submitted to satisfy the condition imposed by EPA in its conditional limited approval of Delaware's regulation requiring reasonably available control technology (RACT) for major sources of nitrogen oxides ( NOX). This action converts EPA's conditional limited approval of Delaware Regulation 12, Control of NOX Emissions, to a full approval. EPA is also taking direct final action to approve three source-specific NOX RACT determinations. These actions are being taken under the Clean Air Act (CAA).

DATES: This rule is effective on August 13, 2001 without further notice, unless EPA receives adverse written comment by July 16, 2001. If EPA receives such comments, it will publish a timely withdrawal of the direct final rule in the Federal Register and inform the public that the rule will not take effect.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Delaware Department of Natural Resources & Environmental Control, 89 Kings Highway, Dover Delaware 19901.

FOR FURTHER INFORMATION CONTACT: Rose Quinto, (215) 814-2182 and Melik Spain, (215) 814-2299, at the EPA Region III address above, or by e-mail at quinto.rose@epa.gov and spain.melik@epa.gov.

SUPPLEMENTARY INFORMATION:

I. Background

Pursuant to sections 182(b)(2) and 182(f) of CAA, Delaware is required to implement RACT for all major NOX sources. The major source size is determined by its location, the classification of that area and whether it is located in the ozone transport region (OTR), which is established by the CAA. The Delaware portion of the Philadelphia-Wilmington-Trenton ozone nonattainment area consists of New Castle and Kent Counties and is classified as severe. Under section 184 of the CAA, at a minimum, moderate ozone nonattainment area requirements, including RACT as specified in sections 182(b)(2) and 182(f), apply throughout the OTR. The entire State of Delaware is in the OTR. Therefore, RACT is applicable statewide in Delaware.

On June 16, 1999 (64 FR 32187), EPA granted conditional limited approval of Delaware's Regulation 12, Control of NOX Emissions which requires all major sources of NOX to implement RACT. Section 5 of Regulation 12 provides for DNREC to make source-specific NOX RACT determinations and to submit them to EPA as SIP revisions. To fulfill the condition imposed by EPA in its June 16, 1999 conditional limited approval of Regulation 12, DNREC was required to certify, by no later than July 17, 2000, that it had submitted all required case-by-case NOX RACT determinations for all known subject sources to EPA. The conditional nature of EPA's June 16, 1999 approval of Regulation 12 would be removed once EPA determined that DNREC had satisfied this condition. The limited nature of EPA's June 16, 1999 approval would be removed once EPA had approved all of the case-by-case RACT determinations submitted by DNREC in fulfillment of the condition described above.

II. Summary of SIP Revision and EPA's Evaluation

On July 13, 2000, DNREC formally submitted revisions to its SIP consisting of four case-by-case RACT determinations made for four processes located at three separate major sources of NOX in Delaware. The July 13, 2000 submittal also included certification by the Secretary of DNREC that the four case-by-case RACT determinations submitted to EPA to establish RACT at these three major sources of NOX represent all required case-by-case NOX RACT determinations for all known subject sources. EPA has determined that DNREC has satisfied the condition imposed in the June 16, 1999 conditional limited approval (64 FR 32187).

The three major sources for which DNREC has submitted case-by-case RACT determinations are: SPI Polyols, Incorporated, New Castle; CitiSteel, Claymont; and General Chemical Corporation, Claymont. The NOX RACT determinations and requirements of each source are included in the Delaware Register of Regulations, Volume 3, Issue 12, June 1, 2000. The specific NOX RACT determinations for these three sources are summarized below.

Case-by-Case NOX RACT Evaluations

SPI Polyols, Incorporated, Atlas Point Site, New Castle, Delaware: SPI Polyols, Incorporated (SPI) operates a Polyhydrate Alcohol Catalyst Regenerative process at its Atlas Point Plant in New Castle County, Delaware. This batch process involves treatment and regeneration of the spent nickel catalyst that is recovered from process waste streams of the sugar reduction process. One step in the catalyst regeneration process involves the use of nitric acid (HNO3) digesters. SPI operates 4 batch HNO3 digesters. The exothermic reaction of HNO3 with spent nickel catalyst generates NOX. The NOX emissions are mainly associated with the addition of HNO3 to the digester tanks. Stack testing at the site indicates that the average emissions rate from this process is approximately 0.8 pounds per hour, or 3.5 tons of NOX per year. DNREC imposes two means of controlling the NOX emissions that come from this process: (1) Process control and (2) operation of a counter flow spray scrubbing system and packed column. With respect to process control, SPI must minimize the formation of NOX by controlling the rate of HNO3 added to the digesters. SPI must submerge the HNO3 feed into the mixing zone of the digester tank. SPI must add HNO3 to only one digester tank at any particular time under a controlled temperature range. SPI must monitor the flow rate of HNO3 addition and calibrate each HNO3 flow meter and temperature monitor in accordance with the recommendations of the manufacturer, using sound engineering and air pollution control practices. With respect to the scrubber system, off-gas from the digester tanks will be collected and routed to the scrubber. There are to be no visible emissions at the scrubber outlet. There are two water spray nozzles at the bottom of the scrubber, upstream of the column, to cool the temperature of the gas before entering the column. The column is packed with plastic. The scrubbing system is equipped with an air dilution valve to promote the oxidation of any NOX to water soluble nitrogen dioxide. It should be noted that the scrubber treats NOX from a process that operates in batch mode. Therefore, NOX emissions are not continuous. Moreover, emissions of NOX from this process are inherently low. At temperatures of 70 to 120 degrees Fahrenheit, NOX concentrations of approximately 5 to 350 parts per million (ppm), and flow rates of 2000 to 9000 square cubic feet per minute (scfm); the reaction rates are slow and the removal of NOX using a water contact scrubber is minimal. Therefore, DNREC views NOX RACT as maintenance of these low NOX levels using the scrubber. SPI must inspect the components of the scrubber and calibrate the differential pressure gauge pursuant to the manufacturer's recommendation at least once per year. The scrubber will be operated using good engineering and air pollution control practices. DNREC has imposed record-keeping requirements on SPI sufficient to determine compliance with the applicable RACT determinations. EPA is approving the NOX RACT determination made by DNREC for SPI as a revision to the Delaware SIP.

CitiSteel USA, Incorporated, Claymont, Delaware: Citisteel USA, Incorporated (Citisteel) produces molten steel by melting scrap steel. Citisteel operates an Electric Arc Furnace (EAF) rated at a 150 tons per charge. The EAF is operated in a batch mode. Citisteel's EAF operates at temperatures above 3,000 degrees Farenheit, which is conducive to thermal NOX formation. The majority of the facility's NOX emissions result from conditions conducive for thermal NOX formation combined with the infiltration of ambient shop air. Nitrogen contained in the scrap steel is oxidized and released inside the EAF vessel, but contributes very little to the total NOX emissions. Stack tests conducted on April 24 and 25, 1996 established an average emission rate of 0.36 pounds per ton of steel produced or 97.2 tons of NOX per year based 540,000 tons of steel produced per year. Typical fuel fired combustion equipment applied to NOX emitting sources are not technically feasible for an EAF. As noted above, the EAF operates in batches and thus has varying temperatures and flow rates as well as high particulate concentrations that would blind a catalyst. Therefore, DNREC will impose no additional requirements on the Citisteel's EAF operations. A well designed exhaust system constitutes RACT in compliance with Regulation No. 12 of the Delaware Regulations Governing the Control of Air Pollution. EPA is approving Delaware's submittal containing the NOX RACT determination made by DNREC for Citisteel's steel manufacturing operations.

General Chemical Corporation, Claymont, Delaware: General Chemical Corporation (General Chem) has two process operations subject to a NOX RACT evaluation: (1) A sulfuric acid (H2SO4) and interstage absorption system (ISA) process and (2) a metallic nitrite process. The H2SO4/ISA process involves burning elemental sulfur, spent H2SO4, and hydrogen sulfide to generate sulfur dioxide. Sulfur dioxide is catalytically oxidized to sulfur trioxide and is absorbed into strong H2SO4. General Chem uses two boilers rated at 46 million British thermal units (MMBtu) per hour to conduct this burning process. Nitrogen oxide emissions are only generated by the burning process. The combustion of sulfur is not is not burned primarily for heat. The sulfur used in the burning process is highly exothermic, providing the majority of the heat to the burners and is in and of itself a low nitrogen bound fuel. The combustion gases are an integral part of the ISA process. Therefore, DNREC determined that combustion modifications are not warranted. The DNREC also confirmed that the low exhaust concentrations of NOX (26.74 ppm or 0.2 lbs. per MMBtu), combined with the high flow rates (54,737 scfm), and the low combustion temperatures disqualifies wet scrubbing as a means of pollution control. Selective catalytic reduction cannot be used due to the existence of particulate matter. Therefore, DNREC imposed no additional controls on General Chem for its H2SO4/ISA processes. EPA is approving DNREC's NOX RACT determination for General Chem's H2SO4/ISA processes.

General Chem's metallic nitrite process is a batch process that produces a 50% solution of potassium nitrite (KNO2). The process involves reacting controlled quantities of ammonia and air over a catalyst. The air-ammonia mixture reacts to form nitric oxide and water, which combines with oxygen to form nitrogen dioxide. The mixture of nitric oxide and nitrogen dioxide is absorbed using potassium hydroxide (KOH) which yields KNO2. The rate of NOX formation is proportional to the level of free alkalinity in the absorption tower. As the batch process progresses, the absorption of NOX by KOH decreases, so there is less potassium available to form KNO2. Hence, the air to ammonia feed rate is of particular interest in controlling NOX levels from this batch process. The metallic nitrite process incorporates an off-gas single stage packed tower scrubber which uses KOH to absorb the majority of the NOX emissions that are generated. The DNREC determined that RACT is continued operation of the scrubber. The scrubber must be tested and calibrated according to the manufacturer's specification and operated using good engineering and air pollution control practices. General Chem must also monitor and keep continuous records of pressure drop, the level of free alkalinity in the scrubber liquor, and the air to ammonia feed rate to the process. EPA is approving DNREC's NOX RACT determination for General Chem's metallic nitrite process.

III. Final Action

EPA is approving revisions to the Delaware's SIP submitted by DNREC on July 13, 2000 which include certification by the Secretary of DNREC that the four case-by-case RACT determinations submitted to EPA (as part of that same July 13, 2000 submittal) establishing RACT for four processes located at three major sources of NOX represent all required case-by-case NOX RACT determinations for all known subject sources. EPA is also approving those RACT determinations made by DNREC for three major sources of NOX in Delaware. As a result of these approvals, both the conditional and limited nature of EPA's June 16, 1999 approval of Delaware's Regulation 12 are, hereby, removed and converted to a full approval. This action is being published without prior proposal because we view this as a noncontroversial amendment and because we anticipate no adverse comments. In a separate document in the “Proposed Rules” section of this Federal Register publication, we are proposing to approve the Delaware SIP revision that establishes and requires RACT for three major sources of NOX. This action will be effective without further notice unless we receive relevant adverse comment by July 16, 2001. If we receive such comment, we will publish a timely withdrawal in the Federal Register informing the public that the rule will not take effect. We will address all public comments in a subsequent final rule based on the proposed rule. Any parties interested in commenting must do so at this time. If no such comments are received by July 16, 2001, you are advised that this action will be effective on August 13, 2001.

IV. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings', issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 13, 2001. Filing a petition for reconsideration by the Administrator of the rule approving Delaware's NOX RACT regulation and three source-specific RACT determinations does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Reporting and recordkeeping requirements.

Dated: May 31, 2001.
Elaine B. Wright,
Acting Regional Administrator, Region III.

40 CFR part 52 is amended as follows:

PART 52—[AMENDED]

1. The authority citation for part 52 continues to read as follows:

Authority: 42 U.S.C. 7401 et seq.

Subpart I—Delaware

2. In § 52.424, paragraph (d) is removed and reserved.

3. Section 52.420 is amended:

a. In the table in paragraph (c) is amended by revising the existing entries for Regulation 12, Sections 1 to 7.

b. In the table in paragraph (d) by revising the title of the table and by adding the entries for “SPI Polyols, Inc.”, “Citisteel”, and “General Chemical Corp.” at the end of the table.

The revisions and additions read as follows:

§ 52.420 Identification of plan.

* * * * *

(c) * * *

EPA-Approved Regulations in the Delaware SIP
State citation | Title/subject | State effective date | EPA approval date | Comments
* * * * * * *
Regulation 12—Control of Nitrogen Oxide Emissions
Section 1 | Applicability | 11/24/93 | 6/14/01, 66 FR 32234
Section 2 | Definitions | 11/24/93 | 6/14/01, 66 FR 32234
Section 3 | Standards | 11/24/93 | 6/14/01, 66 FR 32234
Section 4 | Exemptions | 11/24/93 | 6/14/01, 66 FR 32234
Section 5 | Alternative and Equivalent RACT Determinations | 11/24/93 | 6/14/01, 66 FR 32234
Section 6 | RACT Proposals | 11/24/93 | 6/14/01, 66 FR 32234
Section 7 | Compliance Certification, Record Keeping, and Reporting Requirements | 11/24/93 | 6/14/01, 66 FR 32234
* * * * * * *

(d) * * *

EPA-Approved Delaware Source-Specific Requirements
Name of source | Permit number | State effective date | EPA approval date | Comments
* * * * * * *
SPI Polyols, Inc | Secretary's Order No. 2000-A-0033 | 07/11/00 | 6/14/01, 66 FR 32235 | Polyhydrate Alcohol's Catalyst Regenarative Process—Approved NOX RACT Determination
Citisteel | Secretary's Order No. 2000-A-0033 | 07/11/00 | 6/14/01, 66 FR 32235 | Electric Arc Furnace— Approved NOX RACT Determination
General Chemical Corp | Secretary's Order No. 2000-A-0033 | 07/11/00 | 6/14/01, 66 FR 32235 | (1) Sulfuric Acid Process & Interstage Absorption System (2) Metallic Nitrite Process—Approved NOX RACT Determinations

* * * * *

[FR Doc. 01-14898 Filed 6-13-01; 8:45 am]

BILLING CODE 6560-50-P